POSTAL REGULATORY COMMISSION

Notice Initiating Docket(s) for Recent Postal Service Competitive Negotiated Service Agreement Filings

(Issued November 5, 2024)

| Docket No.
Competitive Product Prices, Priority Mail Express International, Priority Mail International, First-Class Package International Service & Commercial ePacket Contract 2 (MC2020-157), Negotiated Service Agreements | CP2020-173
Competitive Product Prices, Priority Mail Express International, Priority Mail International & First-Class Package International Service Contract 27 (MC2023-265), Negotiated Service Agreements | CP2023-268
Competitive Product Prices, Priority Mail Express International, Priority Mail International & First-Class Package International Service Contracts, Priority Mail Express International, Priority Mail International & First-Class Package International Service Contract 49 | MC2025-265
Competitive Product Prices, Priority Mail Express International, Priority Mail International & First-Class Package International Service Contract 49 (MC2025-265), Negotiated Service Agreements | K2025-263
Competitive Product Prices, Priority Mail Express, Priority Mail & USPS Ground Advantage Contracts, Priority Mail Express, Priority Mail & USPS Ground Advantage Contract 621 | MC2025-267
Competitive Product Prices, Priority Mail Express, Priority Mail & USPS Ground Advantage Contract 621 (MC2025-267), Negotiated Service Agreements | K2025-265
Competitive Product Prices, Priority Mail Express, Priority Mail & USPS Ground Advantage Contracts, Priority Mail Express, Priority Mail & USPS Ground Advantage Contract 622 | MC2025-268
Competitive Product Prices, Priority Mail Express, Priority Mail & USPS Ground Advantage Contract 622 (MC2025-268), Negotiated Service Agreements | K2025-266
Competitive Product Prices, Priority Mail Express, Priority Mail & USPS Ground Advantage Contracts, Priority Mail Express, Priority Mail & USPS Ground Advantage Contract 623 | MC2025-269
Competitive Product Prices, Priority Mail Express, Priority Mail & USPS Ground Advantage Contract 623 (MC2025-269), Negotiated Service Agreements | K2025-267
Competitive Product Prices, Priority Mail Express, Priority Mail & USPS Ground Advantage Contracts, Priority Mail Express, Priority Mail & USPS Ground Advantage Contract 624 | MC2025-270
Competitive Product Prices, Priority Mail Express, Priority Mail & USPS Ground Advantage Contract 624 (MC2025-270), Negotiated Service Agreements | K2025-268
Competitive Product Prices, Priority Mail & USPS Ground Advantage Contracts, Priority Mail & USPS Ground Advantage Contract 430 | MC2025-271
Competitive Product Prices, Priority Mail & USPS Ground Advantage Contract 430 (MC2025-271), Negotiated Service Agreements | K2025-269
Competitive Product Prices, Priority Mail & USPS Ground Advantage Contracts, Priority Mail & USPS Ground Advantage Contract 431 | MC2025-272
Competitive Product Prices, Priority Mail & USPS Ground Advantage Contract 431 (MC2025-272), Negotiated Service Agreements | K2025-270
Competitive Product Prices, Priority Mail Express, Priority Mail & USPS Ground Advantage Contracts, Priority Mail Express, Priority Mail & USPS Ground Advantage Contract 625 | MC2025-273
Competitive Product Prices, Priority Mail Express, Priority Mail & USPS Ground Advantage Contract 625 (MC2025-273), Negotiated Service Agreements | K2025-271
Competitive Product Prices, Priority Mail Express, Priority Mail & USPS Ground Advantage Contracts, Priority Mail Express, Priority Mail & USPS Ground Advantage Contract 626 | MC2025-274
Competitive Product Prices, Priority Mail Express, Priority Mail & USPS Ground Advantage Contract 626 (MC2025-274), Negotiated Service Agreements | K2025-272
Competitive Product Prices, Priority Mail Express, Priority Mail & USPS Ground Advantage Contracts, Priority Mail Express, Priority Mail & USPS Ground Advantage Contract 627 | MC2025-275
Competitive Product Prices, Priority Mail Express, Priority Mail & USPS Ground Advantage Contract 627 (MC2025-275),Negotiated Service Agreements | K2025-273
Competitive Product Prices, Priority Mail Express, Priority Mail & USPS Ground Advantage Contracts, Priority Mail Express, Priority Mail & USPS Ground Advantage Contract 628 | MC2025-276
Competitive Product Prices, Priority Mail Express, Priority Mail & USPS Ground Advantage Contract 628 (MC2025-276), Negotiated Service Agreements | K2025-274
Competitive Product Prices, Priority Mail Express, Priority Mail & USPS Ground Advantage Contracts, Priority Mail Express, Priority Mail & USPS Ground Advantage Contract 629 | MC2025-277
Competitive Product Prices, Priority Mail Express, Priority Mail & USPS Ground Advantage Contract 629 (MC2025-277), Negotiated Service Agreements | K2025-275

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2020-173; Filing Title: Request of the United States Postal Service Concerning Modification Four to Priority Mail Express International, Priority Mail International, First-Class Package International Service & Commercial ePacket Contract 2 Negotiated Service Agreement, Which Includes an Extension of that Agreement; Filing Acceptance Date: November 4, 2024; Filing Authority: 39 CFR 3035.105, 39 CFR 3041.505, and 39 CFR 3041.515; Public Representative: Katalin Clendenin; Comments Due: November 13, 2024.

2. Docket No(s).: CP2023-268; Filing Title: Request of the United States Postal Service Concerning Modification One to Priority Mail Express International, Priority Mail International & First-Class Package International Service Contract 27, Which Includes an Extension of that Agreement; Filing Acceptance Date: November 4, 2024; Filing Authority: 39 CFR 3035.105, 39 CFR 3041.505, and 39 CFR 3041.515; Public Representative: Katalin Clendenin; Comments Due: November 13, 2024.

3. Docket No(s).: MC2025-265 and K2025-263; Filing Title: USPS Request to Add Priority Mail Express International, Priority Mail International & First-Class Package International Service Contract 49 to the Competitive Product List and Notice of Filing Materials Under Seal; Filing Acceptance Date: November 4, 2024; Filing Authority: 39 U.S.C. 3642, 39 CFR 3035.105, and 39 CFR 3041.310; Public Representative: Katalin Clendenin; Comments Due: November 13, 2024.

4. Docket No(s).: MC2025-267 and K2025-265; Filing Title: USPS Request to Add Priority Mail Express, Priority Mail & USPS Ground Advantage Contract 621 to the Competitive Product List and Notice of Filing Materials Under Seal; Filing Acceptance Date: November 4, 2024; Filing Authority: 39 U.S.C. 3642, 39 CFR 3035.105, and 39 CFR 3041.310; Public Representative: Kenneth Moeller; Comments Due: November 13, 2024.

5. Docket No(s).: MC2025-268 and K2025-266; Filing Title: USPS Request to Add Priority Mail Express, Priority Mail & USPS Ground Advantage Contract 622 to the Competitive Product List and Notice of Filing Materials Under Seal; Filing Acceptance Date: November 4, 2024; Filing Authority: 39 U.S.C. 3642, 39 CFR 3035.105, and 39 CFR 3041.310; Public Representative: Kenneth Moeller; Comments Due: November 13, 2024.

6. Docket No(s).: MC2025-269 and K2025-267; Filing Title: USPS Request to Add Priority Mail Express, Priority Mail & USPS Ground Advantage Contract 623 to the Competitive Product List and Notice of Filing Materials Under Seal; Filing Acceptance Date: November 4, 2024; Filing Authority: 39 U.S.C. 3642, 39 CFR 3035.105, and 39 CFR 3041.310; Public Representative: Elsie Lee-Robbins; Comments Due: November 13, 2024.

7. Docket No(s).: MC2025-270 and K2025-268; Filing Title: USPS Request to Add Priority Mail Express, Priority Mail & USPS Ground Advantage Contract 624 to the Competitive Product List and Notice of Filing Materials Under Seal; Filing Acceptance Date: November 4, 2024; Filing Authority: 39 U.S.C. 3642, 39 CFR 3035.105, and 39 CFR 3041.310; Public Representative: Samuel Robinson; Comments Due: November 13, 2024.

8. Docket No(s).: MC2025-271 and K2025-269; Filing Title: USPS Request to Add Priority Mail & USPS Ground Advantage Contract 430 to the Competitive Product List and Notice of Filing Materials Under Seal; Filing Acceptance Date: November 4, 2024; Filing Authority: 39 U.S.C. 3642, 39 CFR 3035.105, and 39 CFR 3041.310; Public Representative: Christopher Mohr; Comments Due: November 13, 2024.

9. Docket No(s).: MC2025-272 and K2025-270; Filing Title: USPS Request to Add Priority Mail & USPS Ground Advantage Contract 431 to the Competitive Product List and Notice of Filing Materials Under Seal; Filing Acceptance Date: November 4, 2024; Filing Authority: 39 U.S.C. 3642, 39 CFR 3035.105, and 39 CFR 3041.310; Public Representative: Christopher Mohr; Comments Due: November 13, 2024.

10. Docket No(s).: MC2025-273 and K2025-271; Filing Title: USPS Request to Add Priority Mail Express, Priority Mail & USPS Ground Advantage Contract 625 to the Competitive Product List and Notice of Filing Materials Under Seal; Filing Acceptance Date: November 4, 2024; Filing Authority: 39 U.S.C. 3642, 39 CFR 3035.105, and 39 CFR 3041.310; Public Representative: Jennaca Upperman; Comments Due: November 13, 2024.

11. Docket No(s).: MC2025-274 and K2025-272; Filing Title: USPS Request to Add Priority Mail Express, Priority Mail & USPS Ground Advantage Contract 626 to the Competitive Product List and Notice of Filing Materials Under Seal; Filing Acceptance Date: November 4, 2024; Filing Authority: 39 U.S.C. 3642, 39 CFR 3035.105, and 39 CFR 3041.310; Public Representative: Gregory Stanton; Comments Due: November 13, 2024.

12. Docket No(s).: MC2025-275 and K2025-273; Filing Title: USPS Request to Add Priority Mail Express, Priority Mail & USPS Ground Advantage Contract 627 to the Competitive Product List and Notice of Filing Materials Under Seal; Filing Acceptance Date: November 4, 2024; Filing Authority: 39 U.S.C. 3642, 39 CFR 3035.105, and 39 CFR 3041.310; Public Representative: Maxine Bradley; Comments Due: November 13, 2024.

13. Docket No(s).: MC2025-276 and K2025-274; Filing Title: USPS Request to Add Priority Mail Express, Priority Mail & USPS Ground Advantage Contract 628 to the Competitive Product List and Notice of Filing Materials Under Seal; Filing Acceptance Date: November 4, 2024; Filing Authority: 39 U.S.C. 3642, 39 CFR 3035.105, and 39 CFR 3041.310; Public Representative: Maxine Bradley; Comments Due: November 13, 2024.

14. Docket No(s).: MC2025-277 and K2025-275; Filing Title: USPS Request to Add Priority Mail Express, Priority Mail & USPS Ground Advantage Contract 629 to the Competitive Product List and Notice of Filing Materials Under Seal; Filing Acceptance Date: November 4, 2024; Filing Authority: 39 U.S.C. 3642, 39 CFR 3035.105, and 39 CFR 3041.310; Public Representative: Anaswar Jayakumar; Comments Due: November 13, 2024.

III. Summary Proceeding(s)

None. See Section II for public proceedings.

This Notice will be published in the Federal Register.
Erica A. Barker,
Secretary.

Media Inquiries

Gail Adams,

gail.adams@prc.gov

[FR Doc. 2024-26067 Filed 11-7-24; 8:45 am]

BILLING CODE P